DEPARTMENT OF ENERGY

Federal Energy Regulatory Commission

Sunshine Act Meeting Notice

November 12, 2009.

The following notice of meeting is published pursuant to section 3(a) of the government in the Sunshine Act (Pub. L. 94-409), 5 U.S.C. 552b:

Agency Holding Meeting: Federal Energy Regulatory Commission.

Date and Time: November 19, 2009, 10 a.m.

Place: Room 2C, 888 First Street, NE., Washington, DC 20426.

Status: Open.

Matters To Be Considered: Agenda: Note: Items listed on the agenda may be deleted without further notice.

Contact Person For More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

953RD—Meeting
Item No. | Docket No. | Company
Administrative
A-1 | AD02-1-000 | Agency Administrative Matters—FERC Strategic Plan.
A-2 | AD02-7-000 | Customer Matters, Reliability, Security and Market Operations.
A-3 | AD06-3-000 | Winter Energy Market Assessment.
Electric
E-1 | ER09-636-000 | Entergy Services, Inc.
E-2 | ER09-1048-000, ER06-615-018, ER06-615-037 | California Independent System Operator Corporation.
E-3 | ER09-1050-000, ER09-748-000, ER09-1192-000 | Southwest Power Pool, Inc.
E-4 | ER09-1051-000 | ISO New England Inc. and New England Power Pool.
E-5 | ER09-1142-000 | New York Independent System Operator, Inc.
E-6 | RM08-19-000, RM08-19-001, RM09-5-000, RM06-16-005 | Mandatory Reliability Standards for the Calculation of Available Transfer Capability, Capacity Benefit Margins, Transmission Reliability Margins, Total Transfer Capability, and Existing Transmission Commitments and Mandatory Reliability Standards for the Bulk-Power System
E-7 | RM05-5-013 | Standards for Business Practices and Communication Protocols for Public Utilities.
E-8 | OMITTED
E-9 | RM05-17-005, RM05-25-005 | Preventing Undue Discrimination and Preference in Transmission Service.
E-10 | OMITTED
E-11 | OMITTED
E-12 | ER10-32-000 | California Independent System Operator Corporation.
E-13 | ER09-1681-000 | California Independent System Operator Corporation.
E-14 | OMITTED
E-15 | ER08-1178-001, ER08-1178-002, EL08-88-001, EL08-88-002 | California Independent System Operator Corporation.
E-16 | ER06-456-006, ER06-954-002, ER06-1271-001, ER07-424-000, EL07-57-000 | PJM Interconnection, L.L.C.
E-17 | ER09-262-003 | Southwest Power Pool, Inc.
E-18 | ER09-1762-000 | Westar Energy, Inc.
E-19 | ER08-733-000 | Pacific Gas and Electric Company.
E-20 | EL09-73-000 | Californians for Renewable Energy, Inc. v. Pacific Gas & Electric Company and California Energy Commission.
E-21 | OMITTED
E-22 | EL00-95-184 | San Diego Gas & Electric Company v. Sellers of Energy and Ancillary Services Into Markets Operated by the California Independent System Operator Corporation and the California Power Exchange.
E-23 | EC08-59-002 | Harbinger Capital Partners Master Fund I, Ltd., Harbinger Capital Partners Special Situations Fund, L.P.
E-24 | EC08-117-001 | Harbinger Capital Partners Master Fund I, Ltd., Harbinger Capital Partners Special Situations Fund, L.P.
E-25 | ER99-2311-012 | Carolina Power & Light Company.
| ER97-2846-015 | Florida Power Corporation.
| ER07-188-007 | Duke Energy Carolinas, LLC.
| ER91-569-045 | Entergy Services, Inc.
| ER02-862-012 | Entergy Power Ventures, LP.
| ER01-666-012 | EWO Marketing, LP.
| ER91-569-047 | Entergy Power, Inc.
| ER94-1188-046 | LG&E Energy Marketing Inc.
| ER99-1623-015 | Louisville Gas & Electric Company.
| ER98-4540-015 | Kentucky Utilities Company.
| ER96-1085-014 | South Carolina Electric & Gas Company.
| ER96-780-023 | Southern Company Services, Inc., Alabama Power Company, Georgia Power Company, Gulf Power Company, Mississippi Power Company, Southern Power Company
| ER99-2342-013 | Tampa Electric Company.
| AD10-2-000 | Guidance on Simultaneous Transmission Import Limit Studies.
E-26 | EL08-77-001 | Central Maine Power Company; Maine Public Service Company.
E-27 | ER09-1618-000 | Montana Alberta Tie Ltd.
|  | MATL LLP.
E-28 | EC08-87-001 | Entegra Power Group LLC., Gila River Power, L.P., Union Power Partners, L.P., Harbinger Capital Partners Master Fund I, Ltd., Harbinger Capital Partners Special Situations Fund, L.P.
E-29 | EL09-31-000 | Sun Edison LLC.
E-30 | EL09-74-000 | Green Energy Express LLC.
E-31 | EL09-70-000 | Milford Wind Corridor, LLC.
E-32 | EL09-77-000 | JD Wind 1, LLC., JD Wind 2, LLC., JD Wind 3, LLC., JD Wind 4, LLC., JD Wind 5, LLC., JD Wind 6, LLC.
Gas
G-1 | PR09-31-000 | The Dow Chemical Company., Dow Pipeline Company, Dow Hydrocarbons and Resources LLC.
G-2 | RM96-1-036 | Standards for Business Practices for Interstate Natural Gas Pipelines.
Hydro
H-1 | P-2438-095 | Seneca Falls Power Corporation.
H-2 | P-13351-001 | Marseilles Land and Water Company.
| P-13176-001 | Marseilles Land and Water Company.
| P-13231-001 | Marseilles Land and Water Company.
| P-13159-001 | City of Marseilles, Illinois.
| P-13230-002 | City of Marseilles, Illinois.
| P-13394-001 | City of Marseilles, Illinois.
H-3 | EL09-55-001, P-2100-171 | County of Butte, California v. California Department of Water Resources.
H-4 | EL06-91-004, P-12252-031 | Albany Engineering Corporation v. Hudson River-Black River Regulating District.
H-5 | P-2169-095 | Alcoa Power Generating Inc.
Certificates
C-1 | OMITTED
C-2 | CP09-17-000, AC08-161-000 | Florida Gas Transmission Company, LLC.
C-3 | CP09-68-000 | Texas Eastern Transmission, LP.
C-4 | CP09-461-000 | Florida Gas Transmission Company, LLC.
C-5 | CP09-415-000 | Northwest Pipeline GP.
C-6 | CP09-60-002 | Dominion Cove Point LNG, LP.

Kimberly D. Bose,
Secretary.

A free webcast of this event is available through http://www.ferc.gov. Anyone with Internet access who desires to view this event can do so by navigating to http://www.ferc.gov's Calendar of Events and locating this event in the Calendar. The event will contain a link to its Web cast. The Capitol Connection provides technical support for the free Web casts. It also offers access to this event via television in the DC area and via phone bridge for a fee. If you have any questions, visit http://www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E9-27689 Filed 11-13-09; 4:15 pm]

BILLING CODE 6717 P